DEPARTMENT OF THE INTERIOR

National Park Service

Native American Graves Protection and Repatriation Review Committee: Nomination Solicitation

AGENCY: National Park Service, Interior.

ACTION: Native American Graves Protection and Repatriation Review Committee; Notice of Nomination Solicitation.

The National Park Service is soliciting nominations for two members of the Native American Graves Protection and Repatriation Review Committee. The Secretary of the Interior will appoint the two members from nominations submitted by national museum organizations and scientific organizations.

Nominations must—

1. Be submitted on organization letterhead, and include the nominator's original signature and daytime telephone number. Also, the nominator must be the official authorized by the organization to submit nominations in response to this solicitation, and the nomination must include a statement that the nominator is so authorized.

2. Include the following information about the nominee:

a. The nominee's full legal name, home address, home telephone number, and e-mail address; and

b. The nominee's resume or a brief biography of the nominee, in which the nominee's NAGPRA experience and ability to work effectively as a member of a Federal advisory board are addressed.

DATES: Nominations must be received by December 20, 2010.

ADDRESSES: Address nominations to David Tarler, Designated Federal Officer, Native American Graves Protection and Repatriation Review Committee, National NAGPRA Program, National Park Service, 1201 Eye Street, NW., 8th Floor (2253), Washington, DC 20005.

SUPPLEMENTARY INFORMATION: 1. The Review Committee was established by the Native American Graves Protection and Repatriation Act of 1990 (NAGPRA), at 25 U.S.C. 3006.

2. The Review Committee is responsible for:

a. Monitoring the NAGPRA inventory and identification process;

b. Reviewing and making findings related to the identity or cultural affiliation of cultural items, or the return of such items;

c. Facilitating the resolution of disputes relating to the return of such items;

d. Compiling an inventory of culturally unidentifiable human remains and developing a process for disposition of such remains;

e. Consulting with Indian Tribes and Native Hawaiian organizations and museums on matters within the scope of the work of the Review Committee affecting such Tribes or organizations;

f. Consulting with the Secretary of the Interior in the development of regulations to carry out NAGPRA; and

g. Making recommendations regarding future care of cultural items that are to be repatriated.

3. Seven members make up the Review Committee. All members are appointed by the Secretary of the Interior. The Secretary may not appoint Federal officers or employees to the Review Committee.

a. Three members are appointed from nominations submitted by Indian Tribes, Native Hawaiian organizations, and traditional Native American religious leaders. At least two of these members must be traditional Indian religious leaders.

b. Three members are appointed from nominations submitted by national museum organizations and scientific organizations.

c. One member is appointed from a list of persons developed and consented to by all of the other members.

4. Members serve as Special Governmental Employees, and are required to submit confidential financial disclosure reports and to complete ethics training on an annual basis.

5. Members are appointed for 4-year terms; incumbent members may be reappointed for 2-year terms.

6. The Review Committee's work is completed during public meetings. The Review Committee normally meets face-to-face two times per year, with each meeting lasting two or three days. The Review Committee also may hold one or more public teleconferences of several hours duration.

7. Review Committee members are compensated for their participation in Review Committee meetings.

8. Review Committee members are reimbursed for travel expenses incurred in association with Review Committee meetings.

9. Additional information regarding the Review Committee—its charter, meeting procedures, findings procedures, dispute procedures, and annual reports to the Congress—is available on the National NAGPRA program Web site, at http://www.nps.gov/nagpra (click “Review Committee” in the menu located in the right-hand column).

FOR FURTHER INFORMATION CONTACT: David Tarler, Designated Federal Officer, Native American Graves Protection and Repatriation Review Committee, National NAGPRA Program, National Park Service, 1201 Eye Street, NW., 8th Floor (2253), Washington, DC 20005; telephone (202) 354-2108; e-mail david_tarler@nps.gov.

Dated: October 15, 2010.
David Tarler,
Designated Federal Officer, Native American Graves Protection and Repatriation Review Committee.

[FR Doc. 2010-26464 Filed 10-20-10; 8:45 am]

BILLING CODE 4312-50-P